DEPARTMENT OF COMMERCE

National Oceanic and Atmospheric Administration

[RTID 0648-XC072]

Marine Mammals; File No. 26314

AGENCY: National Marine Fisheries Service (NMFS), National Oceanic and Atmospheric Administration (NOAA), Commerce.

ACTION: Notice; receipt of application.

SUMMARY: Notice is hereby given that the St. George Traditional Council, P.O. Box 940, St. George Island, AK 99591 (Responsible Party: Mark Merculief) has applied in due form for a permit to conduct research on northern fur seals (Callorhinus ursinus), Steller sea lions (Eumetopias jubatus), and harbor seals (Phoca vitulina).

DATES: Written, telefaxed, or email comments must be received on or before July 18, 2022.

ADDRESSES: The application and related documents are available for review by selecting “Records Open for Public Comment” from the “Features” box on the Applications and Permits for Protected Species (APPS) home page, https://apps.nmfs.noaa.gov, and then selecting File No. 26314 from the list of available applications. These documents are also available upon written request via email to NMFS.Pr1Comments@noaa.gov.

Written comments on this application should be submitted via email to NMFS.Pr1Comments@noaa.gov. Please include File No. 26314 in the subject line of the email comment.

Those individuals requesting a public hearing should submit a written request via email to NMFS.Pr1Comments@noaa.gov. The request should set forth the specific reasons why a hearing on this application would be appropriate.

FOR FURTHER INFORMATION CONTACT: Sara Young or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216); the Endangered Species Act of 1973, as amended (ESA; 16 U.S.C. 1531 et seq.), the regulations governing the taking, importing, and exporting of endangered and threatened species (50 CFR parts 222-226); and the Fur Seal Act of 1966, as amended (16 U.S.C. 1151 et seq.).

The applicant proposes to conduct research on pinnipeds to fulfill the co-management agreement between the St. George Traditional Council and NMFS for northern fur seals and Steller sea lions on St. George Island, Alaska. Take activities involve ground survey, aerial survey by an unmanned aircraft system, vessel survey, observation, and photography. Animals may also be harassed during disentanglement of northern fur seals covered under the applicant's Marine Mammal Stranding Agreement. In addition, samples may be collected, imported, or exported from subsistence harvests or beach-cast pinnipeds, or opportunistically encountered unidentified cetacean and pinniped carcasses. Take numbers include up to 2,600 northern fur seals, 350 Steller sea lions, 260 harbor seals, and up to 100 each unidentified cetacean and pinniped carcasses. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 14, 2022.
Amy Sloan,
Acting Chief, Permits and Conservation Division, Office of Protected Resources, National Marine Fisheries Service.

[FR Doc. 2022-13121 Filed 6-16-22; 8:45 am]

BILLING CODE 3510-22-P